DEPARTMENT OF ENERGY

Federal Energy Regulatory Commission

[Docket No. CP06-54-000; Docket No. CP06-55-000]

Broadwater Energy LLC; Broadwater Pipeline LLC; Notice of Interagency Meeting on the Proposed Broadwater LNG Project Draft Environmental Impact Statement

January 9, 2007.

On January 16, 2007, in response to a request from Connecticut State Senator Leonard A. Fasano, Chairman, Connecticut LNG Task Force, the staff of the Office of Energy Projects (OEP) will conduct a meeting with Connecticut state agencies and officials regarding the proposal to construct and operate a liquefied natural gas (LNG) import terminal and natural gas pipeline (referred to as the Broadwater LNG Project). The meeting location and time are as follows: Town Hall, Mayor's Conference Room, 250 East Main Street, East Haven, Connecticut 06512, 203-468-3204, 2 p.m. (EST).

For additional information, contact the Commission's Office of External Affairs at 866-208-FERC (3372).

Magalie R. Salas,
Secretary.

[FR Doc. E7-444 Filed 1-12-07; 8:45 am]

BILLING CODE 6717-01-P